DEPARTMENT OF HEALTH AND HUMAN SERVICES

Centers for Medicare & Medicaid Services

[Document Identifier: CMS-10157, CMS-R-0074, CMS-R-244 and CMS-10163]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: CMS Real-time Eligibility Agreement and Access Request; Form Number: CMS-10157 (OMB#: 0938-0960); Use: Federal law requires that CMS take precautions to minimize the security risk to Federal information systems. Accordingly, CMS is requiring that trading partners who wish to conduct the eligibility transaction on a real-time basis to access Medicare beneficiary information provide certain assurances as a condition of receiving access to the Medicare database for the purpose of conducting eligibility verification. Health care providers, clearinghouses, and health plans that wish access to the Medicare database are required to complete this form. The information will be used to assure that those entities that access the Medicare database are aware of applicable provisions and penalties. Frequency: Recordkeeping and Reporting—One time; Affected Public: Business or other for-profit, Not-for-profit institutions; Number of Respondents: 122,000; Total Annual Responses: 122,000; Total Annual Hours: 45,000.

2. Type of Information Collection Request: Extension of a currently approved collection; Title of Information Collection: Income and Eligibility Verification System Reporting in Section 1137 of the Social Security Act and Supporting Regulations in 42 CFR 431.17, 431.306, 435.910, 435.920, 435.940-435.960; Form Number: CMS-R-0074 (OMB#: 0938-0467); Use: This information is used to verify the income and eligibility of Medicaid applicants and recipients as required by Section 1137 of the Social Security Act; Affected Public: Individuals or Households and State, Local or Tribal Government; Number of Respondents: 54; Total Annual Responses: 54; Total Annual Hours: 124,054.

3. Type of Information Collection Request: Extension of a currently approved collection; Title of Information Collection: Medicare and Medicaid: Programs of All-Inclusive Care for the Elderly (PACE) contained in 42 CFR 460.12-460.210/Medicare and Medicaid: Programs of All-Inclusive Care for the Elderly (PACE; Program Revisions) contained in 42 CFR 460.10-460.210; Form Number: CMS-R-244 (OMB#: 0938-0790); Use: PACE is a pre-paid, capitated plan that provides comprehensive health care services to frail, older adults in the community, who are eligible for nursing home care according to State standards. The Balanced Budget Act (BBA) of 1997 authorized coverage of PACE under the Medicare program and as a State option under Medicaid. The Medicare, Medicaid, and SCHIP Benefits Improvement Act of 2000 (BIPA) amended section 1894 and 1943 of Social Security Act to provide authority for CMS to modify or waive PACE regulatory provisions. Organizations that seek participation under PACE must apply for approval and are evaluated in terms of specific criteria. The information collection requirement is necessary to ensure that only appropriate organizations are selected to become PACE organizations. CMS and the State Administering Agencies will use the information to select PACE organizations and monitor their performance. Frequency: Recordkeeping, Reporting—Quarterly and Annually; Affected Public: Not-for-profit institutions, Federal Government and State, Local, or Tribal Government; Number of Respondents: 54; Total Annual Responses: 54; Total Annual Hours: 44,378.

4. Type of Information Collection Request: Extension of a currently approved collection; Title of Information Collection: 1-800-MEDICARE Customer Experience Questionnaire; Form Number: CMS-10163 (OMB#: 0938-0963); Use: Section 923 (d) of the Medicare Prescription Drug, Improvement and Modernization Act of 2003 established 1-800 MEDICARE as the primary source of general Medicare information and assistance. As part of the Medicare Modernization Act (MMA), CMS must provide Part D eligibles and their representatives with the information they need to make informed decisions among the available choices for Part D coverage. Part D sponsors can start marketing their programs on October 1, 2005. The initial enrollment period for the general population will occur from November 15, 2005 to May 15, 2006. The information collected from this survey will allow CMS to monitor callers' satisfaction with various aspects of both the Interactive Voice Recognition (IVR) component and live Customer Service Representative (CSR) component of the 1-800 MEDICARE line. Timely feedback from customers on key satisfaction indicators will be used for continuous quality enhancement. Frequency: Reporting—Weekly, Quarterly and Monthly; Affected Public: Individuals and Households; Number of Respondents: 31,200; Total Annual Responses: 31,200; Total Annual Hours: 4940.

To obtain copies of the supporting statement and any related forms for the proposed paperwork collections referenced above, access CMS’ Web site address at http://www.cms.hhs.gov/regulations/pra/, or e-mail your request, including your address, phone number, OMB number, and CMS document identifier, to Paperwork@cms.hhs.gov, or call the Reports Clearance Office on (410) 786-1326.

To be assured consideration, comments and recommendations for the proposed information collections must be received at the address below, no later than 5 p.m. on November 29, 2005.

CMS, Office of Strategic Operations and Regulatory Affairs, Division of Regulations Development, Attention: Bonnie L. Harkless, Room C4-26-05, 7500 Security Boulevard, Baltimore, Maryland 21244-1850.

Dated: September 21, 2005.
Michelle Shortt,
Director, Regulations Development Group, Office of Strategic Operations and Regulatory Affairs.

[FR Doc. 05-19245 Filed 9-29-05; 8:45 am]

BILLING CODE 4120-01-P